DEPARTMENT OF THE INTERIOR

Fish and Wildlife Service

[FWS-R6-ES-2019-N125; FXES11130600000-190-FF06E00000]

Endangered and Threatened Wildlife and Plants; Draft Recovery Plan for the Gunnison Sage-Grouse

AGENCY: Fish and Wildlife Service, Interior.

ACTION: Notice of document availability for review and comment.

SUMMARY: We, the U.S. Fish and Wildlife Service, announce the availability of a draft recovery plan for Gunnison sage-grouse, a bird species listed as threatened under the Endangered Species Act. We are requesting review and comment from the public on this draft plan. The draft recovery plan includes objective, measurable criteria, and site-specific management actions as may be necessary to remove the species from the Federal List of Endangered and Threatened Wildlife.

DATES: We must receive any comments on the draft recovery plan on or before December 31, 2019.

ADDRESSES:

Document availability: Copies of the draft recovery plan are available at http://www.fws.gov/endangered/species/recovery-plans.html. Alternatively, you may request a copy by U.S. mail from the Colorado Ecological Services Field Office, U.S. Fish and Wildlife Service, 445 West Gunnison Avenue, #240, Grand Junction, CO 81501-5711; or via telephone at 970-628-7181.

Submitting comments: If you wish to comment on the draft recovery plan, you may submit your comments in writing by email to gusgrecoveryplan@fws.gov, or by U.S. mail or hand-delivery to the Field Supervisor at the address above.

Viewing public comments: Comments and materials the Service receives will be available for public inspection by appointment during normal business hours at the address above.

FOR FURTHER INFORMATION CONTACT: Ann Timberman, Field Supervisor, Colorado Ecological Services Field Office, Grand Junction, at the above U.S. mail address or telephone number (see ADDRESSES).

SUPPLEMENTARY INFORMATION: We, the U.S. Fish and Wildlife Service (Service), announce the availability of a draft recovery plan for Gunnison sage-grouse (Centrocercus minimus; hereafter, GUSG), a bird species listed as threatened under the Endangered Species Act of 1973, as amended (Act; 16 U.S.C. 1531 et seq.). We are requesting review and comment from the public on this draft recovery plan.

Background

Restoring an endangered or threatened animal or plant to the point where it is again a secure, self-sustaining member of its ecosystem is a primary goal of the Service's endangered species program. Recovery means improving the status of a listed species to the point at which listing is no longer necessary according to the criteria specified under section 4(a)(1) of the Act. The Act requires recovery plans for listed species unless such a plan would not promote the conservation of a particular species. To help guide recovery efforts, we prepare recovery plans to promote the conservation of the species.

The purpose of a recovery plan is to provide a recommended framework for the recovery of a species so that protection of the Act is no longer necessary. Pursuant to section 4(f) of the Act, a recovery plan must, to the maximum extent possible, include: (1) A description of site-specific management actions as may be necessary to achieve the plan's goal for the conservation and survival of the species; (2) objective, measurable criteria which, when met, would support a determination under section 4(a)(1) of the Act that the species should be removed from the List of Endangered and Threatened Species; and (3) estimates of time and costs required to carry out those measures needed to achieve the plan's goal and to achieve intermediate steps toward that goal.

We used our new recovery planning and implementation (RPI) process to develop the draft recovery plan for Gunnison sage-grouse. The RPI process helps reduce the time needed to develop and implement recovery plans, increases the relevancy of the recovery plan over longer timeframes, and adds flexibility so that the recovery plan can be more easily adjusted to new information and circumstances. Under our RPI process, a recovery plan will include the three statutorily required elements for recovery plans—objective and measurable criteria, site-specific management actions, and estimates of time and cost—along with a concise introduction and our strategy for how we plan to achieve species recovery. The RPI recovery plan is supported by a separate species status assessment (SSA) report, which provides the scientific background information and threat assessment for the species, which are key to the development of the recovery plan. A third, separate working document, called the recovery implementation strategy (RIS), steps down the more general descriptions of actions in the recovery plan to detail the specifics needed to implement the recovery plan, which improves the flexibility of the recovery plan. The RIS will be adaptable, with new information on actions incorporated, as needed, without requiring a concurrent revision to the recovery plan, unless changes to the three statutory elements are required.

On November 20, 2014, we listed GUSG as a threated species (79 FR 69192) and concurrently designated critical habitat for the species (79 FR 69312). On April 25, 2018, we agreed to complete a recovery plan in order to receive a stay of litigation. We conducted a SSA for the species and documented our analysis in an SSA report (Service 2019), which is an in-depth, scientific review of the species' biology and threats, an evaluation of its biological status, and an assessment of the resources and conditions needed to support populations over time. The SSA report provides the scientific background and threats assessment for our draft recovery plan.

In accordance with our July 1, 1994, peer review policy (59 FR 34270; July 1, 1994); our August 22, 2016, Director's Memo on the Peer Review Process; and the Office of Management and Budget's December 16, 2004, Final Information Quality Bulletin for Peer Review (revised June 2012), we solicited independent scientific reviews of the information contained in the SSA report. Results of this structured peer review process can be found at https://www.fws.gov/mountain-prairie/science/peerReview.php. We also submitted our SSA report to our Federal, State, and Tribal partners for their scientific review. We incorporated the results of the peer and partner review in the SSA report, as appropriate. The SSA report is the scientific foundation for the draft recovery plan.

This notice opens the public review and comment period for our draft recovery plan for the GUSG. Section 4(f) of the Act requires that we notify the public and provide an opportunity for public review and comment during the development of recovery plans. We will consider all information we receive during a public comment period when preparing the recovery plan for approval, and particularly look for comments that provide scientific rationale or background. The Service and other Federal agencies will take these comments into consideration in the course of implementing an approved final recovery plan.

Species Information

Gunnison sage-grouse (or GUSG) is a small bird in the grouse family that lives exclusively in sagebrush steppe ecosystems of southwestern Colorado and southeastern Utah. GUSG are closely associated with sagebrush (Artemisia spp.) ecosystems in North America (Young et al. 2015, p. 1). GUSG rely on ecosystems with relatively contiguous and healthy sagebrush stands for food and shelter year round, while grasses and forbs in the understory provide cover and food during the nesting and early brood-rearing periods (Connelly et al. 2000, p. 971).

Since the 1900s, the GUSG's occupied range has contracted, due largely to habitat loss associated with the conversion of sagebrush habitats to agriculture and residential and commercial development. GUSG now occupies an estimated 10 percent of its historical range (Schroeder et al. 2004, p. 370). Currently, GUSG are found in eight small populations distributed across eight counties in Colorado and one county in Utah, with seven populations located in Colorado (Gunnison Basin, Poncha Pass, Crawford, Cerro Summit-Cimarron-Sims Mesa (CSCSM), Piñon Mesa, San Miguel, and Dove Creek) and one population in Utah (Monticello). These eight populations occupy six different ecoregions, or areas delineated by common geology, landforms, soils, vegetation, climate, land use, wildlife, and hydrology (EPA 2018), which represent distinct ecological differences in habitat between the populations.

A number of threats continue to affect GUSG populations, including: Habitat loss due to commercial and residential development; improperly managed grazing; encroachment by piñon-juniper; the effects of small population size; and regulatory mechanisms are inadequate to protect the species from these threats.

Recovery Strategy

Below, we summarize components from our draft recovery plan for GUSG. Please reference the draft recovery plan for full details (see ADDRESSSES above).

The draft recovery plan describes the recovery goal as the survival and conservation of GUSG. In general, GUSG need a sufficient number of resilient populations distributed across the overall range to maximize ecological and genetic diversity to withstand environmental stochasticity and catastrophes, and to adapt to environmental change. Recovery for GUSG will be signified by at least five resilient populations (Gunnison Basin, San Miguel Basin, Piñon Mesa, Crawford, and Monticello) and improved habitat in two populations (Dove Creek and CSCSM). These conditions provide sufficient representation and redundancy across the species' range through the occupancy of multiple ecoregions, the number of populations, and a broad distribution.

Recovery criteria in the draft plan include: (1) Maintaining sufficiently high male counts (HMCs) for at least 7 out of 9 years (specific targets are described in the draft recovery plan); and (2) reducing or ameliorating threats associated with habitat loss and degradation in all populations, via regulatory mechanisms or other conservation plans or programs. To help meet these criteria, the draft recovery plan identifies recovery actions from the following general categories: Translocating GUSG to augment populations; conserving and restoring habitat; managing motorized routes on Federal lands; and continued research and monitoring.

Request for Public Comments

The Service solicits public comments on the draft recovery plan. All comments we receive by the date specified (see DATES) will be considered prior to approval of the plan. Written comments and materials regarding the plan should be sent via the means in the ADDRESSES section.

We are specifically seeking comments and suggestions on the following questions:

• Understanding that the time and cost presented in the draft recovery plan will be fine-tuned when localized recovery implementation strategies are developed, are the estimated time and cost to recovery realistic? Is the estimate reflective of the time and cost of actions that may have already been implemented by Federal, State, county, or other agencies? Please provide suggestions or methods for determining a more accurate estimation.

• Do the draft recovery criteria provide clear direction to State partners on what is needed to recover the species? How could they be improved for clarity?

• Are the draft recovery criteria both objective and measurable given the information available for this species now and into the future? Please provide suggestions.

• Understanding that specific, detailed, and area-specific recovery actions will be developed in the RIS, do the draft recovery actions presented in the draft recovery plan generally cover the types of actions necessary to meet the recovery criteria? If not, what general actions are missing? And, are any of the draft recovery actions unnecessary for achieving recovery? Have we prioritized the actions appropriately?

Public Availability of Comments

We will summarize and respond to the issues raised by the public in an appendix to the approved final recovery plan. Before including your address, phone number, email address, or other personal identifying information in your comment, you should be aware that your entire comment—including your personal identifying information—may be made publicly available at any time. You may request at the top of your comment that we withhold this information from public review; however, we cannot guarantee that we will be able to do so.

Authority

The authority for this action is section 4(f) of the Endangered Species Act, 16 U.S.C. 1533(f).

Dated: September 20, 2019.
Noreen Walsh,
Regional Director, Lakewood, Colorado.

[FR Doc. 2019-23894 Filed 10-31-19; 8:45 am]

BILLING CODE 4333-15-P